DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2009, there were seven applications approved. This notice also includes information on three applications, approved in August 2009, inadvertently left off the August 2009 notice. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of 158.29.

PFC Applications Approved

Public Agency: City of Kansas City, Missouri.

Application Number: 09-06-C-00-MCI.

Application Type: Impose and use a PFC.

PFC Level: $3.00.

Total PFC Revenue Approved in this Decision: $22,679,060.

Earliest Charge Effective Date: July 1, 2014.

Estimated Charge Expiration Date: June 1, 2015.

Classes of Air Carriers Not Required To Collect PFC's: Air taxi/commercial operators filing FAA Form 1800-31.

Determination: Approved. Based on information contained in the public agency's application, the FAA has determined that the approved class accounts for less than 1 percent of the total annual enpianements at Kansas City International Airport (MCI).

Brief Description of Projects Approved for Collection at MCI and Use at MCI:

Terminal chilled water line and cooling tower replacement.

Airfield pavement rehabilitation.

New snow removal equipment.

Cargo apron rehabilitation.

Brief Description of Project Approved for Collection at MCI and Use at Charles B. Wheeler Downtown Airport: Runway 1/19 safety area extensions.

Brief Description of Project Partially Approved for Collection at MCI and Use at MCI: Snow removal equipment/aircraft rescue and firefighting vehicle maintenance facility.

Determination: Partially approved. The FAA determined that the existing facility included uses that were not PFC eligible. Therefore, only 14 percent of the cost of the building renovations was determined to be eligible.

Brief Description of Project Approved for Collection at MCI for Future Use at MCI: Airfield sand and deicing facility.

Brief Description of Project Partially Approved for Collection at MCI for Future Use at MCI: Airfield snow removal equipment building.

Determination: Partially approved. The public agency requested that this facility be funded solely with PFC revenue. However, the FAA's calculations on the minimum size and fleet make-up of the airport's snow removal fleet determined that only 32 of the 45 pieces of snow removal equipment (equaling 71 percent of the existing fleet) were PFC-eligible. Therefore, the approved PFC amount for this facility was limited to 71 percent of the total project cost.

Brief Description of Disapproved Project: Common use airfield waste facility.

Determination: Disapproved. The FAA determined that this project was not PFC eligible in accordance with § 158.15(b)(1).

Decision Date: August 13, 2009.

For Further Information Contact: Nicoletta Oliver, Central Region Airports Division, (816) 329-2642.

Public Agency: County and City of Yakima, Washington.

Application Number: 09-12-U-00-YKM.

Application Type: Use PFC revenue. PFC Level: $3.00.

Total PFC Revenue Approved in this Decision: $300,000.

Charge Effective Date: August 1, 2006.

Estimated Charge Expiration Date: April 1, 2011.

Class of Air Carriers Not Required To Collect PFC's: No change from previous decision.

Brief Description of Project Approved for Use: Relocate South 16th Avenue/safety area service road.

Decision Date: August 27, 2009.

For Further Information Contact: Trang Tran, Seattle Airports District Office, (425) 227-1662.

Public Agency: County of Chemung, Horseheads, New York.

Application Number: 09-03-C-00-ELM.

Application Type: Impose and use a PFC. PFC Level: $4.50.

Total PFC Revenue Approved in this Decision: $2,080,342.

Earliest Charge Effective Date: March 1, 2010.

Estimated Charge Expiration Date: October 1, 2014.

Class of Air Carriers Not Required To Collect PFC's: Nonscheduled/on-demand carriers filing FAA Form 1800-31.

Determination: Approved. Based on information contained in the public agency's application, the FAA has determined that the approved class accounts for less than 1 percent of the total annual enpianements at Elmira Corning Regional Airport.

Brief Description of Projects Approved for Collection and Use:

Snow removal equipment.

Storm water drainage study.

Security fence.

Master plan update.

Airport sweeper.

Terminal renovations.

Terminal lighting improvements.

PFC application.

Passenger canopy.

Land acquisition environmental assessment and appraisals (north of Sing Sing Road/runway 24 runway protection zone).

Broom.

Brief Description of Projects Approved for Collection:

Design general aviation access.

Construct general aviation access.

Truck-mounted snow blower.

Master plan update in 2013.

Design snow removal equipment/maintenance building.

Construct snow removal equipment/maintenance building.

Brief Description of Projects Approved for Use:

Land acquisition (easement)—runways 10 and 28 runway protection zone.

Land acquisition (fee simple)—runway 24 runway protection zone.

Design runway 24 and taxiway A extensions.

Construct runway 24 and taxiway A extensions.

Brief Description of Disapproved Projects:

Design parking lot expansion.

Construct parking lot expansion.

Determination: Disapproved. The FAA determined that this project was not PFC eligible in accordance with § 158.15(b)(1).

Brief Description of Withdrawn Projects:

Design taxiways A, L, and D.

Construct taxiways A, L, and D.

Date of Withdrawal: August 30, 2009.

Decision Date: August 31, 2009.

For Further Information Contact: Andrew Brooks, New York Airports District Office, (516) 227-3816.

Public Agency: Town of Mammoth Lake, California.

Application Number: 09-02-C-00-MMH.

Application Type: Impose and use a PFC.

PFC Level: $4.50.

Total PFC Revenue Approved in this Decision: $399,917.

Earliest Charge Effective Date: November 1, 2009.

Estimated Charge Expiration Date: November 1, 2025.

Class of Air Carriers Not Required To Collect PFC's: None.

Brief Description of Projects Approved for Collection and Use:

Reconstruction of runway 09/27—phases I and II.

Acquire snow removal equipment.

Terminal building improvements.

Decision Date: September 8, 2009.

For Further Information Contact: Gretchen Kelly, San Francisco Airports District Office, (650) 876-2778, extension 623.

Public Agency: City of Flagstaff, Arizona.

Application Number: 09-02-C-00-FLG.

Application Type: Impose and use a PFC. PFC Level: $3.00.

Total PFC Revenue Approved in this Decision: $1,157,023.

Earliest Charge Effective Date: November 1, 2009.

Estimated Charge Expiration Date: February 1, 2015.

Class of Air Carriers Not Required To Collect PFC's: Nonscheduled/on-demand carriers.

Determination: Approved. Based on information contained in the public agency's application, the FAA has determined that the approved class accounts for less than 1 percent of the total annual enplanements at Flagstaff Pulliam Airport.

Brief Description of Project Approved for Collection and Use: Extend runway 03/21.

Decision Date: September 11, 2009.

For Further Information Contact: Darlene Williams, Los Angeles Airports District Office, (310) 725-3625.

Public Agency: City of San Angelo, Texas. Application Number: 09-08-C-00-SJT.

Application Type: Impose and use a PFC. PFC Level: $4.50.

Total PFC Revenue Approved in this Decision: $988,304.

Earliest Charge Effective Date: February 1, 2010.

Estimated Charge Expiration Date: August 1, 2014.

Class of Air Carriers Not Required To Collect PFC's: Nonscheduled/on-demand carriers filing FAA Form 1800-31.

Determination: Approved. Based on information contained in the public agency's application, the FAA has determined that the approved class accounts for less than 1 percent of the total annual enplanements at San Angelo Regional Airport/Mathis Field.

Brief Description of Projects Approved for Collection and Use:

Taxiway B rehabilitation.

Overhead powerline relocation.

Terminal renovations.

PFC program application number 8.

Taxiways A, D, and H.

Security fencing improvements.

Acquire aircraft rescue and firefighting vehicle.

Update airport master plan and update airport layout plan.

Runway 3/21 rehabilitation.

Runway 9/27 rehabilitation.

Decision Date: September 16, 2009.

For Further Information Contact: Marcelino Sanchez, Texas Airports Development Office, (817) 222-5652.

Public Agency: Gallatin Airport Authority, Belgrade, Montana.

Application Number: 09-05-C-00-BZN.

Application Type: Impose and use a PFC.

PFC Level: $4.50.

Total PFC Revenue Approved in this Decision: $29,000,000.

Earliest Charge Effective Date: March 1, 2011.

Estimated Charge Expiration Date: March 1, 2029.

Class of Air Carriers Not Required To Collect PFC's: Air taxi/commercial operators filing FAA Form 1800-31.

Determination: Approved. Based on information contained in the public agency's application, the FAA has determined that the approved class accounts for less than 1 percent of the total annual enplanements at Gallatin Field.

Brief Description of Project Approved for Collection and Use: Terminal expansion.

Decision Date: September 17, 2009.

For Further Information Contact: Dave Stelling, Helena Airports District Office, (406) 449-5271.

Public Agency: Cities of Fort Collins and Loveland, Loveland, Colorado.

Application Number: 09-06-C-00-FNL.

Application Type: Impose and use a PFC. PFC Level: $4.50.

Total PFC Revenue Approved in this Decision: $350,000.

Earliest Charge Effective Date: June 1, 2010.

Estimated Charge Expiration Date: January 1, 2013.

Class of Air Carriers Not Required To Collect PFCs: None.

Brief Description of Projects Approved for Collection and Use:

Construct taxiway Al extension.

North airfield drainage improvements.

Wildlife assessment study.

Taxiway E grading and utility lowering.

Purchase snow removal equipment.

Security enhancements 3.

Taxiway E construction.

1-Hangar fencing.

T-Hangar pavement reconstruction.

Taxiway D pavement maintenance.

Purchase aircraft rescue and firefighting truck.

Rehabilitate airport rotating beacon.

Install airfield electrical vault backup generator.

Security enhancements 4.

Decision Date: September 18, 2009.

For Further Information Contact: Chris Schaffer, Denver Airports District Office, (303) 342-1258.

Public Agency: County of Gunnison, Gunnison, Colorado.

Application Number: 09-05-C-00-GUC.

Application Type: Impose and use a PFC. PFC Level: $4.50.

Total PFC Revenue Approved in this Decision: $396,438.

Earliest Charge Effective Date: June 1, 2016.

Estimated Charge Expiration Date: April 1, 2019.

Class of Air Carriers Not Required To Collect PFC's: None.

Brief Description of Projects Approved for Collection and Use:

Conduct wildlife study.

Install airport beacon.

Rehabilitate commercial service apron.

Expand general aviation apron.

Rehabilitate general aviation apron.

Acquire aircraft rescue and firefighting vehicle.

Update airport layout plan.

Acquire snow removal equipment vehicles.

PFC administration.

Decision Date: September 23, 2009.

For Further Information Contact: Chris Schaffer, Denver Airports District Office, (303) 342-1258.

Public Agency: Ports of Douglas County and Chelan County, East Wenatchee, Washington.

Application Number: 09-09-C-00-EAT.

Application Type: Impose and use a PFC. PFC Level: $4.50.

Total PFC Revenue Approved in this Decision: $105,268.

Earliest Charge Effective Date: February 1, 2010.

Estimated Charge Expiration Date: August 1, 2010.

Class of Air Carriers Not Required To Collect PFC's: None.

Brief Description of Project Approved for Collection and Use:

Security fence phase II.

Fire station access road phase II.

Terminal design update phase II.

Taxiway B design phase I.

Terminal construction phase Ill.

Terminal construction phase IV.

Security gates/proximity locks.

Airpacs—aircraft rescue and firefighting.

Airport Way design and environmental assessment.

Decision Date: September 23, 2009.

For Further Information Contact: Trang Tran, Seattle Airports District Office, (425) 227-1662.

Amendments to PFC Approvals
Amendment No. city, state | Amendment approved date | Original approved net PFC revenue | Amended approved net PFC revenue | Original estimated charge exp. date | Amended estimated charge exp. date
05-09-C-01-MSP Minneapolis, MN | 09/01/09 | $7,315,783 | $8,659,351 | 02/01/19 | 02/01/19
99-08-C-03-SJC San Jose, CA | 09/09/09 | $36,880,000 | $36,628,580 | 04/01/03 | 04/01/03
92-01-C-01-FLG Flagstaff, AZ | 09/10/09 | $2,463,581 | $1,775,294 | 01/01/15 | 11/01/09
95-03-C-02-PHX Phoenix, AZ | 09/14/09 | $106,966,000 | $93,230,839 | 11/01/98 | 11/01/98
97-04-U-01-PHX Phoenix, AZ | 09/14/09 | NA | NA | 11/01/98 | 11/01/98
03-01-C-01-MLU Monroe, LA | 09/15/09 | $452,224 | $401,025 | 02/01/06 | 02/01/06
06-02-C-01-MLU Monroe, LA | 09/15/09 | $720,000 | $413,444 | 09/01/07 | 09/01/07
04-04-C-01-GUC Gunnison, CO | 09/23/09 | $2,278,137 | $1,691,864 | 06/01/14 | 06/01/16
06-03-C-01-BJI Bemidji, MN | 09/23/09 | $337,711 | $790,324 | 05/01/08 | 01/01/14
02-04-C-01-BPT Beaumont, TX | 09/23/09 | $149,300 | $116,051 | 04/01/07 | 09/01/05
02-05-C-01-BLI Bellingham, WA | 09/23/09 | $930,653 | $926,873 | 10/01/06 | 10/01/06
06-07-C-01-BLI Bellingham, WA | 09/23/09 | $1,058,649 | $1,058,549 | 11/01/07 | 11/01/07

Issued in Washington, DC, on December 4, 2009.
Joe Hebert,
Manager, Financial Analysis and Passenger Facility Charge Branch.

[FR Doc. E9-29566 Filed 12-14-09; 8:45 am]

BILLING CODE 4910-13-M